DEPARTMENT OF THE INTERIOR

National Park Service

National Register of Historic Places; Weekly Listing of Historic Properties

Pursuant to (36CFR60.13(b,c)) and (36CFR63.5), this notice, through publication of the information included herein, is to apprise the public as well as governmental agencies, associations and all other organizations and individuals interested in historic preservation, of the properties added to, or determined eligible for listing in, the National Register of Historic Places from July 13, to July 17, 2009.

For further information, please contact Edson Beall via: United States Postal Service mail, at the National Register of Historic Places, 2280, National Park Service, 1849 C St., NW., Washington, DC 20240; in person (by appointment), 1201 Eye St., NW., 8th Floor, Washington, DC 20005; by fax, 202-371-2229; by phone, 202-354-2255; or by e-mail, Edson_Beall@nps.gov.

Dated: September 8, 2009.
J. Paul Loether,
Chief, National Register of Historic Places, National Historic Landmarks Program.

KEY: State, County, Property Name, Address/Boundary, City, Vicinity, Reference Number, Action, Date, Multiple Name

ARIZONA

Maricopa County

Arizona State Hospital Building, 2500 E. Van Buren St., Phoenix, 09000510, Listed, 7/15/09

Southern Pacific Railroad Locomotive No. SP 2562 and Tender No. 8365, 330 E. Ryan Rd., Chandler, 09000511, Listed, 7/17/09

ARKANSAS

Fulton County

Mammoth Spring Dam and Lake, 17 US 63 N., Mammoth Spring, 09000512, Listed, 7/15/09

Pulaski County

Federal Reserve Bank Building (Boundary Increase), 123 W. 3rd St., Little Rock, 09000513, Listed, 7/15/09 (Thompson, Charles L., Design Collection TR)

Sebastian County

Hartford Commercial Historic District, Buildings on the E. side of Broadway St. from 12 N. Broadway to 106 S. Broadway, Hartford, 09000514, Listed, 7/15/09

CALIFORNIA

Los Angeles County

Killingsworth, Brady, & Smith, 3827-3837 Long Beach Blvd., Long Beach, 09000515, Listed, 7/15/09

IOWA

Winneshiek County

Big Stone Mills, 113 N. Main St., Spillville, 09000516, Listed, 7/15/09 (Flour Milling in Iowa MPS)

LOUISIANA

Lafourche Parish

Vives House, 923 Jackson St., Thibodaux, 09000517, Listed, 7/15/09

St. Tammany Parish

Haaswood Store, 62011 US 1091, Pearl River vicinity, 09000518, Listed, 7/15/09

MARYLAND

Carroll County

Taylor-Manning-Leppo House, 2600 Patapsco Rd., Finksburg vicinity, 09000519, Listed, 7/15/09

MICHIGAN

Allegan County

Leiendecker's Inn—Coral Gables, 220 Water St., Saugatuck, 09000520, Listed, 7/16/09

Berrien County

Lakeside Inn, 15251 Lakeshore Rd., Lakeside, 09000521, Listed, 7/16/09

Houghton County

Lake Linden Historic District, Calumet St. between 1st and 8th plus parts of Hecla and Schoolcraft Sts., Lake Linden, 09000522, Listed, 7/16/09

Van Buren County

Bangor Elevator, 142 W. Monroe St., Bangor, 09000523, Listed, 7/14/09

Wayne County

Eberts, John and Emma Lacey, House, 109 Vinewood Ave., Wyandotte, 09000524, Listed, 7/16/09

Wayne County

Wyandotte Odd Fellows Temple, 81 Chestnut St., Wyandotte, 09000527, Listed, 7/16/09

NEBRASKA

Buffalo County

Kearney National Guard Armory, 1600 Central Ave., Kearney, 09000525, Listed, 7/16/09

Douglas County

Northwestern Bell Telephone Company Regional Headquarters, 100 S. 19th St., Omaha, 09000526, Listed, 7/17/09

Fillmore County

Maple Grove Sales Pavilion and Farrowing Barn, 2408 Rd. W, Tobias, 09000528, Listed, 7/16/09

NORTH CAROLINA

Greene County

Neoheroka Fort Site, Address Restricted, Snow Hill vicinity, 09000529, Listed, 7/17/09

OREGON

Clackamas County

Iron Workers' Cottage, 40 Wilbur St., Lake Oswego, 09000531, Listed, 7/16/09

Deschutes County

Pictograph Site, Address Restricted, Brothers vicinity, 09000532, Listed, 7/17/09

TENNESSEE

Knox County

Stratford, 809 Dry Gap Pike, Knoxville, 09000536, Listed, 7/16/09 (Knoxville and Knox County MPS)

VIRGINIA

Prince William County

Commanding General's Quarters, Quantico Marine Base, 100 Block of Neville Rd., Quantico Marine Base, Quantico, 09000540, Listed, 7/17/09

WASHINGTON

Kittitas County

Thorp Grade School, 10831 N. Thorp Hwy., Thorp, 09000541, Listed, 7/16/09 (Rural Public Schools of Washington State MPS)

WYOMING

Laramie County

Crow Creek—Cole Ranch Headquarters Historic District, 1065 Happy Jack Rd., Cheyenne vicinity, 09000565, Listed, 7/14/09

[FR Doc. E9-22517 Filed 9-17-09; 8:45 am]

BILLING CODE P